DEPARTMENT OF HEALTH AND HUMAN SERVICES

Centers for Disease Control and Prevention

[60Day-25-0607; Docket No. CDC-2024-0089]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled The National Violent Death Reporting System. (NVDRS). NVDRS is a state-based surveillance system developed to monitor the occurrence of violent deaths, including homicide, suicide, deaths due to legal intervention, deaths of undetermined intent, and unintentional firearm deaths in the U.S.

DATES: CDC must receive written comments on or before January 3, 2025.

ADDRESSES: You may submit comments, identified by Docket No. CDC-2024-0089 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

The National Violence Death Reporting System (NVDRS) (OMB Control No. 0920-0607, Exp. 9/30/2025)—Revision—National Center for Injury Prevention and Control (NCIPC), Centers for Disease Control and Prevention (CDC).

Background and Brief Description

Violence against others or oneself is a major public health problem in the United States and is a particular problem for the young: suicide and homicide were among the top four leading causes of death for Americans 10-44 and 1-34 years of age in 2022. A key to preventing these violent deaths is to understand and target their circumstances. Given the magnitude of the problem, it is noteworthy that no national surveillance system for violent deaths existed in the U.S. until the National Violent Death Reporting System (NVDRS) was developed. NVDRS is a state-based surveillance system developed to monitor the occurrence of violent deaths (e.g., homicide, suicide, deaths due to legal intervention, deaths of undetermined intent, and unintentional firearm deaths) in the U.S. by collecting comprehensive data from multiple sources (e.g., death certificates, coroner/medical examiner reports, law enforcement reports) into a useable, anonymous database.

CDC received initial OMB approval for NVDRS in November 2004 and renewals through July 2020. This Revision request includes several minor updates: (1) implement updates to the web-based system to improve performance, functionality, and accessibility; (2) add new data elements to the system; and (3) make minimal revisions to the NVDRS Coding Manual. The School Associated Violent Death (SAVD) module was added in the previous Revision request on July 2020, due to the discontinuation of the SAVD Surveillance System (OMB Control No. 0920-0604). SAVD currently monitors school-associated violent deaths across the U.S. by abstracting data from media reports. These data play an important role in assessing national trends in school-associated violent deaths and helping inform efforts to prevent fatal school violence. To address duplication, the SAVD was phased out and the SAVD module in NVDRS will capture in depth information about such incidents. The Public Safety Officer Suicide Reporting module was also added to the system to capture more detailed information on suicides among public safety officers. This module includes information specific to first responders and builds upon elements collected as part of current NVDRS. Like the SAVD module, it is a tab in the NVDRS web-based system that only applies to a subset of incidents.

NVDRS is an ongoing surveillance system that captures annual violent death counts, CDC aggregates de-identified data from each state into one national database that is analyzed and released in annual reports and other publications. A restricted access database is available for researchers to request access to NVDRS data for analysis and a web-based query system is open for public use that allows for electronic querying of data. NVDRS generates public health surveillance information at the national, state, and local levels that is more detailed, useful, and timely. The information helps identify where prevention efforts need to be focused. CDC requests OMB approval for an estimated 41,827 annual burden hours. There are no costs to respondents other than their time to participate.

Estimated Annualized Burden Hours
Type of respondent | Form name | Number of respondents | Number responses per respondent | Average burden per response (in hours) | Total burden hours
Public Agencies | Web-based Data Entry | 56 | 1,350 | 30/60 | 37,800
| School Associated Violent Death Module | 45 | 1 | 30/60 | 23
| Public Safety Officer Suicide Reporting Module | 56 | 429 | 10/60 | 4,004
Total |  |  |  |  | 41,827

Jeffrey M. Zirger,
Lead, Information Collection Review Office, Office of Public Health Ethics and Regulations, Office of Science, Centers for Disease Control and Prevention.

[FR Doc. 2024-25555 Filed 11-1-24; 8:45 am]

BILLING CODE 4163-18-P